FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR 515).

Persons knowing of any reason why any of the following applicants should not receive a license are requested to contact the Office of Freight Forwarders, Federal Maritime Commission, Washington, D.C. 20573.

Non-Vessel-Operating Common Carrier Ocean Transportation Intermediary Applicants:

Senator International Ocean LLC, 11250 NW 25th Street, Suite 124, Miami, FL 33172. Officers: Christian M. Ollino, Vice President (Qualifying Individual), Mario Alfonso, President.

Cargo Management International, 401 N. Oak Street, Inglewood, CA 90302. Officer: Ray A. Vidal, C.E.O. (Qualifying Individual).

Non-Vessel-Operating Common Carrier and Ocean Freight Forwarder Transportation Intermediary Applicants:

Pioneer International Corp., 80 Everett Avenue, Suite 325, Chelsea, MA 02150. Officers: Pamela Ann Grzonka, Asst. Vice President (Qualifying Individual), David W. Maloney, President.

PMG Containerline, Inc., 6300 Hazeltine National Dr., Suite 100, Orlando, FL 32822. Officers: James G. Gain, President (Qualifying Individual), Thomas R. Murray, Vice President.

HR Services d/b/a HR Shipping Services, 211 North Union Street, Suite 100, Alexandria, VA 22314. Officer: Nigel J. McCallum, V.P. Operations (Qualifying Individual).

Ocean Freight Forwarders—Ocean Transportation Intermediary Applicants:

Senator International Freight Forwarding LLC, 11250 N.W. 25th Street, Suite 124, Miami, FL 33172. Officers: Mario Alfonso, President (Qualifying Individual), Uwe Kirschbaum, Chairman.

Commercial Transport Co., 16820 Lee Road, Humble, TX 77396, Robert R. Chapa, Sole Proprietor.

Martin E. Button, Inc., 55 New Montgomery Street, Suite 400, San Francisco, CA 94105. Officers: Jennifer Rixford, Secretary (Qualifying Individual), Martin E. Button, President.

Bryant L. VanBrakle,
Secretary.

[FR Doc. 00-1857 Filed 1-25-00; 8:45 am]

BILLING CODE 6730-01-P